SECURITIES AND EXCHANGE COMMISSION

[Release No. 34-44734A; File No. SR-NASD-2001-42]

Self-Regulatory Organizations; the National Association of Securities Dealers, Inc.; Notice of Filing and Immediate Effectiveness of Proposed Rule Change and Amendment No. 1 To Extend the Expiration Date of Nasdaq's Transaction Credit Pilot Program; Correction

August 30, 2001.

In Release No. 34-44734, issued on August 22, 2001 (FR Document 01-21651 beginning on page 45347 for Tuesday, August 28, 2001), the title inadvertently omitted the name of the self-regulatory organization. The title is corrected to read as set forth above. Additionally, the release contained an inaccurate expiration date for the pilot program. The pilot program is extended for an additional six months, through December 31, 2001, not through September 1, 2001.

For the Commission, by the Division of Market Regulation, pursuant to delegated authority.¹
¹ 17 CFR 200.30-3(a)(12).
Margaret H. McFarland,
Deputy Secretary.

[FR Doc. 01-22512 Filed 9-6-01; 8:45 am]

BILLING CODE 8010-01-M